ENVIRONMENTAL PROTECTION AGENCY

[FRL-8279-8]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 1088.11; NSPS for Industrial-Commercial-Institutional Steam Generating Units (Renewal); in 40 CFR part 60, subpart Db); was approved 02/01/2007; OMB Number 2060-0072; expires 02/28/2010.

EPA ICR No. 1500.06; National Estuary Program (Renewal); in 40 CFR 35.9000—35.9070; was approved 01/29/2007; OMB Number 2040-0138; expires 01/31/2010.

EPA ICR No. 2232.01; Community Water System Survey 2006; was approved 01/29/2007; OMB Number 2040-0273; expires 01/31/2010.

EPA ICR No. 2072.03; NESHAP for Lime Manufacturing (Renewal); in 40 CFR part 63, subpart AAAAA; was approved 01/30/2007; OMB Number 2060-0544; expires 01/31/2010.

EPA ICR No. 1686.06; NESHAP for the Secondary Lead Smelter Industry (Renewal); in 40 CFR part 63, subpart X); was approved 01/30/2007; OMB Number 2060-0296; expires 01/31/2010.

EPA ICR No. 1353.08; Land Disposal Restrictions No-Migration Variances (Renewal); in 40 CFR 268.6 and 268.40; was approved 01/29/2007; OMB Number 2050-0062; expires 01/31/2010.

EPA ICR No. 2240.02; NESHAP for Area Sources: Polyvinyl Chloride and Copolymers Production, Primary Copper Smelting, Secondary Copper Smelting, and Primary Nonferrous Metals-Zinc, and Beryllium (Final Rule); in 40 CFR, section 11149(d)-(g), 11150(a)-(b), 11162(g), 11163(c)-(g), 11164(a)-(b) and Table 1 to subpart GGGGG; was approved 01/24/2007; OMB Number 2060-0596; expires 01/31/2010.

EPA ICR No. 1052.08; NSPS Subpart D, Standards of Performance for Fossil-Fuel-Fired Steam Generating Units; in 40 CFR part 60, subpart D; was approved 01/19/2007; OMB Number 2060-0026; expires 01/31/2010.

EPA ICR No. 1949.05; Information Collection Request for the EPA National Environmental Performance Track Program; was approved 01/19/2007; OMB Number 2010-0032; expires 01/31/2010.

EPA ICR No. 1093.08; NSPS for Surface Coating of Plastic Parts for Business Machines (Renewal); in 40 CFR part 60, subpart TTT; was approved 01/19/2007; OMB Number 2060-0162; expires 01/31/2010.

EPA ICR No. 1128.08; NSPS for Secondary Lead Smelters (Renewal); in 40 CFR part 60, subpart L; was approved 01/18/2007; OMB Number 2060-0080; expires 01/31/2010.

EPA ICR No. 1084.08; NSPS for Nonmetallic Mineral Processing; in 40 CFR part 60 subpart OOO; was approved 01/18/2007; OMB Number 2060-0050; expires 01/31/2010.

EPA ICR No. 1569.06; Approval of State Coastal Nonpoint Pollution Control Programs (CZARA Section 6217); was approved 01/12/2007; OMB Number 2040-0153; expires 01/31/2010.

EPA ICR No. 1893.04; Federal Plan Requirements for Municipal Solid Waste Landfills (Renewal); in 40 CFR part 62, subpart GGG); was approved 01/12/2007; OMB Number 2060-0430; expires 01/31/2010.

EPA ICR No. 2219.02; Tips and Complaints Regarding Environmental Violations (Renewal); was approved 02/07/2007; OMB Number 2020-0032; expires 02/28/2010.

EPA ICR No. 2234.01; 2007 Drinking Water Infrastructure Needs Survey and Assessment; was approved 02/07/2007; OMB Number 2040-0274; expires 02/28/2010.

Short Term Extensions

EPA ICR No. 0234.09; Performance Evaluation Studies of Water and Waste Water Laboratories; OMB Number 2080-0021; on 01/19/2007 OMB extended the expiration date to 07/31/2007.

Comment Filed

EPA ICR No. 2243.02; Procedures for Implementing the National Environmental Policy Act (NEPA) and Assessing the Environmental Effects Abroad of EPA Actions (Proposed Rule); OMB filed comment on 01/30/2007.

Dated: February 13, 2007.
Oscar Morales,
Director, Collection Strategies Division.

[FR Doc. E7-3000 Filed 2-21-07; 8:45 am]

BILLING CODE 6560-50-P